DEPARTMENT OF TRANSPORTATION

Federal Highway Administration

Environmental Impact Statement: U.S. 127 N/S.R. 28, Cumberland and Fentress Counties, TN

AGENCY: Federal Highway Administration (FHWA), DOT.

ACTION: Notice of Intent.

SUMMARY: The Federal Highway Administration (FHWA) is issuing this notice to advise the public that an Environmental Impact Statement (EIS) will be prepared for a proposed highway project in Cumberland and Fentress Counties, Tennessee.

FOR FURTHER INFORMATION CONTACT: Mr. Brian K. Brasher, Acting Field Operations Team Leader, Federal Highway Administration—Tennessee Division Office, 640 Grassmere Park Road, Suite 112, Nashville 37211, Telephone: 615-781-5763

SUPPLEMENTARY INFORMATION: The FHWA, in cooperation with the Tennessee Department of Transportation (TDOT), will prepare an EIS on a proposal to improve U.S. 127/S.R. 28 in Cumberland and Fentress Counties, Tennessee. The proposed project will improve U.S. 127N/S.R. 28 between I-40 at Crossville and S.R. 62 at Clarkrange, a distance of approximately 14 miles. Improvements to the corridor are considered necessary to provide for existing and projected traffic demand, improve safety, and help achieve existing local and regional economic development goals.

Alternatives under consideration include (1) Taking no action; (2) widening the existing two-lane highway to five lanes along the existing alignment; (3) widening the existing two-lane highway to five lanes at the project beginning and end and widening to four lanes between the two proposed five-lane sections; and (4) constructing a four-lane section on new location west of the existing highway from north of Tabor Loop to south of Clear Creek then rejoining the existing highway alignment and improving it to four lanes to just south of Clarkrange, where it would transition to a new five-lane section along the existing roadway.

The alternatives development, screening process, Citizens' Resource Team input, and current project public involvement process will be incorporated into the NEPA process. A Public Involvement Plan has been developed to include the public in the project development process. The plan proposes utilizing the following outreach efforts to provide information and solicit input: Newsletters, the Internet, e-mail, informal meetings, public information meetings and other efforts as necessary and appropriate. As part of the scoping process federal, state, and local agencies and officials; private organizations; citizens; and interest groups will have an opportunity to provide input into the development of the EIS and identify issues of concern. It is anticipated that one formal agency scoping meeting will be held. A public hearing will be held upon completion of the Draft EIS and public notice will be given of the time and place of the hearing. A toll-free information line and a Web site have already been put in place for the project.

The Draft Environmental Impact Statement will be available for public and agency review and comment prior to the public hearings.

To ensure that the full range of issues related to this proposed action are identified and taken into account, comments and suggestions are invited from all interested parties. Comments and questions concerning the proposed action should be directed to the FHWA contact person identified above at the address provided above.

(Catalog of Federal Domestic Assistance Program Number 20.205, Highway Planning and Construction. The regulations implementing Executive Order 12372 regarding intergovernmental consultation on Federal programs and activities apply to this proposed program.)
Issued on: February 8, 2005.
Brian K. Brasher,
Acting Field Operations Team Leader.

[FR Doc. 05-2764 Filed 2-11-05; 8:45 am]

BILLING CODE 4910-22-P